DEPARTMENT OF COMMERCE

Foreign-Trade Zones Board

[Docket 71-2011]

Foreign-Trade Zone 87—Lake Charles, LA; Application for Reorganization/Expansion

An application has been submitted to the Foreign-Trade Zones Board (the Board) by the Lake Charles Harbor & Terminal District, grantee of FTZ 87, requesting authority to reorganize and expand the zone in Lake Charles. The application was submitted pursuant to the provisions of the Foreign-Trade Zones Act, as amended (19 U.S.C. 81a-81u), and the regulations of the Board (15 CFR part 400). It was formally filed on November 8, 2011.

FTZ 87 was approved on July 22, 1983 (Board Order 217, 48 FR 35478, 8/4/83), and expanded on April 7, 1999 (Board Order 1034, 64 FR 23052-23053, 4/29/99). The zone currently consists of six sites (1,761 acres total) in Lake Charles: Site 1 (463 acres, 5 parcels)—general cargo area of the Port of Lake Charles; Site 2 (360 acres, 2 parcels)—industrial areas located on both sides of the Industrial Canal (some 12 miles south of Site 1); Site 3 (11.3 acres)—warehouse facility located at Fournet and Ford Streets; Site 4 (3.4 acres)—warehouse facility located at 3001 Industrial Avenue; Site 5 (391 acres)—Lake Charles Harbor & Terminal District's Industrial Park East located on Highway 397; and, Site 6 (533.61 acres total, 3 parcels)—within the Chennault Airpark at 3650 J. Bennett Johnston Avenue, at East Broad Street, and at Avenue C.

The applicant is requesting authority to reorganize and expand the zone project as described below. The proposal includes both additions and deletions with an overall increase in total zone space: (1) Modify Site 1 by removing 421.90 acres due to changed circumstances (new site acreage—41.10 acres); (2) expand Site 2 to include an additional 31.73 acres (new site acreage—391.73 acres); (3) delete Site 4 in its entirety due to changed circumstances; (4) modify Site 5 by removing 25.733 acres due to changed circumstances (new site acreage—365.267 acres); and, (5) modify and expand Site 6 by removing 1.8 acres due to changed circumstances and include the entire Chennault International Airport and Airpark that would encompass the remaining acreage (new site acreage—1628.276 acres). The expanded sites will provide warehousing and distribution services to area businesses. No specific manufacturing authority is being requested at this time. Such requests would be made to the Board on a case-by-case basis.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is January 17, 2012. Rebuttal comments in response to material submitted during the foregoing period may be submitted during the subsequent 15-day period to January 30, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Camille Evans at Camille.Evans@trade.gov or (202) 482-2350.

Dated: November 8, 2011.
Andrew McGilvray,
Executive Secretary.

[FR Doc. 2011-29502 Filed 11-14-11; 8:45 am]

BILLING CODE 3510-DS-P